DEPARTMENT OF HEALTH AND HUMAN SERVICES

Centers for Disease Control and Prevention

Notice of Award of a Single-Source Grant To Fund the International Agency for Research on Cancer

AGENCY: Centers for Disease Control and Prevention (CDC), Department of Health and Human Services (HHS).

ACTION: Notice.

SUMMARY: The Centers for Disease Control and Prevention (CDC), located within the Department of Health and Human Services (HHS), announces the award of approximately $200,000, with an expected total funding of approximately $1,000,000 over a five-year period to the International Agency for Research on Cancer (IARC). The award will support the IARC Handbooks on Cancer Prevention program which provide comprehensive reviews and consensus evaluations evidence on the effectiveness of preventive interventions that may reduce cancer incidence or mortality in the United States and other countries.

DATES: The period for this award will be July 1, 2022 through June 30, 2027.

FOR FURTHER INFORMATION CONTACT: Mary C. White, National Center for Chronic Disease Prevention and Health Promotion, Centers for Disease Control and Prevention, 4770 Buford Highway, MS S107-4, Atlanta, GA 30341, Telephone: 800-232-6348, Email: MCWhite@cdc.gov.

SUPPLEMENTARY INFORMATION: The single-source award will focus on evaluations of the evidence on the effectiveness of preventive interventions that may reduce cancer incidence or mortality in the United States and other countries.

IARC is uniquely qualified for this award because no other organization, within the United States or elsewhere, convenes internationally recognized experts to rigorously evaluate scientific evidence on the effectiveness of preventive interventions that may reduce cancer incidence or mortality.

IARC is the specialized cancer agency of the World Health Organization. To accomplish its mission, the IARC Handbooks on Cancer Prevention program provides definitive, independent evidence-based evaluations of cancer-preventive interventions.

The program was established more than 20 years ago to identify and assess which interventions can prevent cancer or detect cancer at an early stage, to reduce cancer cases worldwide and save lives. The handbooks are regarded as trustworthy sources of information by national and international health agencies around the world.

Summary of the Award

Recipient: The International Agency for Research on Cancer (IARC).

Purpose of the Award: The purpose of this award is to provide a five-year grant to the International Agency for Research on Cancer (IARC) to provide support for the IARC Handbooks on Cancer Prevention program and ensure its continuity over five years. The outcomes include: Expanded dissemination of information about effective strategies and interventions to reduce cancer risk; and expanded utilization of the IARC Handbooks evaluations among health agencies to develop evidence-based interventions or policy recommendations for reducing cancer risk at the population level.

Amount of Award: $200,000 in Federal Fiscal Year (FFY) 2022 funds, with a total estimated $1,000,000 for a five-year period of performance, subject to availability of funds.

Authority: Public Health Service Act, 42 U.S.C. 241(a) and 247b(k)(2).

Period of Performance: July 1, 2022 through June 30, 2027.

Dated: February 15, 2022.
Terrance Perry,
Chief Grants Management Officer, Centers for Disease Control and Prevention.

[FR Doc. 2022-03630 Filed 2-18-22; 8:45 am]

BILLING CODE 4163-18-P